DEPARTMENT OF ENERGY

Federal Energy Regulatory Commission

[Docket No. RP02-74-000]

Enbridge Pipelines (KPC); Notice of Refund Report

December 5, 2001.

Take notice that on November 29, 2001, Enbridge Pipelines (KPC) tendered for filing an Excess Interruptible Revenue Refund Report.

KPC states that the report is made pursuant to section 24.5 of its FERC Gas Tariff. KPC requests a waiver from the crediting provision of section 24.5 in order to credit the amount to be refunded against the current balance of receivable from Kansas Gas Service, the only customer paying KPC's maximum rate.

KPC states that copies of the filing have been served on all parties to the proceeding in Docket No. CP96-152.

Any person desiring to be heard or to protest said filing should file a motion to intervene or a protest with the Federal Energy Regulatory Commission, 888 First Street, NE., Washington, DC 20426, in accordance with sections 385.214 or 385.211 of the Commission's rules and regulations. All such motions or protests must be filed on or before December 12, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30565 Filed 12-10-01; 8:45 am]

BILLING CODE 6717-01-P